DEPARTMENT OF HEALTH AND HUMAN SERVICES

National Institutes of Health

Center for Scientific Review, Amended Notice of Meeting

Notice is hereby given of a change in the meeting of the Central Visual Processing Study Section, June 19, 2007, 8 a.m. to June 20, 2007, 5 p.m. DoubleTree Hotel, 8120 Wisconsin Avenue, Bethesda, MD 20814 which was published in the Federal Register on May 4, 2007, 72 FR 25324-25325.

The meeting will be held one day only on June 29, 2007. The meeting time and location remains the same. The meeting is closed to the public.

Dated: May 8, 2007.
Jennifer Spaeth,
Director, Office of Federal Advisory Committee Policy.

[FR Doc. 07-2422 Filed 5-16-07; 8:45 am]

BILLING CODE 4140-01-M